SOCIAL SECURITY ADMINISTRATION

Agency Information Collection Activities: Notice of Office of Management and Budget (OMB) Approval, Proposed Request and Comment Request

As required by the Paperwork Reduction Act of 1995 (44 U.S.C. 3507), the Social Security Administration (SSA) is providing notice of OMB's approval of the information collections in the 20 CFR 422.527, Private Printing and Modification of Prescribed Application and Other Forms. In accordance with the Paperwork Reduction Act, persons are not required to respond to an information collection unless it displays a valid Office of Management and Budget control number. The OMB Number is 0960-0663, which expires December 31, 2005.

The Social Security Administration (SSA) publishes a list of information collection packages that will require clearance by the Office of Management and Budget (OMB) in compliance with Public Law 104-13 effective October 1, 1995, The Paperwork Reduction Act of 1995. The information collection packages that may be included in this notice are for new information collections, revisions to OMB-approved information collections and extensions (no change) of OMB-approved information collections.

SSA is soliciting comments on the accuracy of the agency's burden estimate; the need for the information; its practical utility; ways to enhance its quality, utility and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, New Executive Office Building, Room 10235, 725 17th St., NW., Washington, DC 20503, Fax: 202-395-6974.

(SSA), Social Security Administration, DCFAM, Attn: Reports Clearance Officer, 1300 Annex Bldg., 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Claimant's Medications—0960-0289—20 CFR 404.1512 and 416.912. The information on form HA-4632 is used to process title II (Old-Age and Survivors Disability Insurance) and title XVI (Supplemental Security Income (SSI)) disability claims. Claimants provide an updated list of medications using form HA-4632. This information enables the Administrative Law Judge who conducts the hearing to fully inquire into medical treatment the claimant is receiving and the effect of medications on the claimant's medical treatment. The respondents are applicants for title II and title XVI benefits.

Type of Request: Extension of an OMB-approved information collection.

Number of Respondents: 171,939.

Frequency of Response: 1.

Average Burden Per Response: 15 minutes.

Estimated Annual Burden: 42,985 hours.

2. Letter to Employer Requesting Wage Information—0960-0138. Form SSA-L4201-U2 is used to collect wage data from employers to establish and/or verify wage information for SSI claimants, beneficiaries and deemors. SSA uses the data to determine if an individual is eligible for SSI and, if so, to determine the amount of the payment due. The respondents are employers of applicants for and recipients of SSI payments.

Type of Request: Extension of an OMB-approved information collection.

Number of Respondents: 133,000.

Frequency of Response: 1.

Average Burden Per Response: 30 minutes.

Estimated Annual Burden: 66,500 hours.

II. The information collections listed below have been submitted to OMB for clearance. Your comments on the information collections would be most useful if received by OMB and SSA within 30 days from the date of this publication. You can obtain a copy of the OMB clearance package by calling the SSA Reports Clearance Officer at 410-965-0454, or by writing to the address listed above.

Action: Comment Request

1. State Partnership Initiative (SPI) Cooperative Agreements—0960-0610. Executive Order 13078 Dated March 13, 1998, Increasing Employment of Adults With Disabilities. This action orders that a National Task Force be established to create a coordinated and aggressive national policy to bring adults with disabilities into gainful employment at a rate that is as close as possible to that of the general adult population. E.O. 13078 specifies that the Task Force “evaluate and, where appropriate, coordinate and collaborate on, research and demonstration priorities of Task Force member agencies related to employment of adults with disabilities.” To comply with the EO, SSA released cooperative agreement announcements in 1998 to approximately 650 State agencies nationwide to conduct demonstration projects that assist States in developing service delivery models that increase the rates of gainful employment of people with disabilities. Eighteen State agencies have been selected to participate in the demonstration projects. SSA has employed a monitoring and technical assistance contractor to collect information from the State awardees' databases on behalf of SSA. The Contractor will use the information to evaluate whether and to what extent the service delivery models achieve the overall goals of the demonstration projects and will report project results to SSA. SSA will use the results to conduct a net outcome evaluation to determine the long-term effectiveness of the interventions. Following is a table that outlines the public reporting burden of the 18 State agencies for this project:

Type of Request: Revision of an OMB-approved information collection.

Title of collection | Number of annual responses | Frequency of response | Average burden per response | Estimated annual burden
Demonstration Site Form | 16 (electronic) | One Time | 1 minute | 1 hour.
| 2 (manual) | One Time | 1 minute | 1 hour.
Participant Demographic Data Form | 3,080 (electronic) | One Time | 15 minutes | 770 hours.
| 300 (manual) | One Time | 20 minutes | 100 hours.
Participant Employment Data Form | 3,080 (electronic) | One Time | 5 minutes | 257 hours.
| 300 (manual) | One Time | 7 minutes | 35 hours.
Participant Update Form | 3,080 (electronic) | Quarterly | 4 minutes | 821 hours.
| 300 (manual) | Quarterly | 5 minutes | 100 hours.
Change in Employment Status | 1,540 (electronic) | Completed only if employment changes | 3 minutes | 77 hours.
| 150 (manual) |  | 4 minutes | 10 hours.
State Quarterly and State Semiannual and Annual Reports | 72 | Quarterly, semiannual and Annual | 15 minutes for Each report | 18 hours.
| 36 |  |  | 9 hours.
| 18 |  |  | 4 hours.
Stakeholder Interviews | 50 | Varies per Stakeholder | 10 minutes | 8 hours.
Total | 12,024 |  |  | 2,211 hours.

2. Claimant's Recent Medical Treatment—20 CFR, Subpart P, 404.1512 and 20 CFR, Subpart I, 416.912—0960-0292. The information collected on form HA-4631 is used to provide an updated medical history for disability claimants who request a hearing and to afford claimants their statutory right to a hearing and decision under the Social Security Act. This information is necessary to assure that the Social Security Administration has the most recent medical information before making a final determination on a claim. The respondents are claimants requesting hearings on entitlement to benefits based on disability under title II and/or title XVI of the Social Security Act.

Type of Request: Extension of an OMB-approved information collection.

Number of Respondents: 309,490.

Frequency of Response: 1.

Average Burden Per Response: 10 minutes.

Estimated Annual Burden: 51,582 hours.

3. Report to U.S. SSA by Person Receiving Benefits for a Child or Adult Unable to Handle Funds; and Report to U.S. SSA-0960-0049.

SSA needs the information on forms SSA-7161-OCR-SM and SSA-7162-OCR-SM to determine continuing entitlement to Social Security benefits and correct benefit amounts for beneficiaries outside the U.S., as well as to monitor the performance of representative payees outside the U.S. The respondents are individuals outside the U.S. who are receiving benefits on their own behalf (or for someone else) under title II of the Social Security Act.

Type of Request: Extension of an OMB-approved information collection.

| SSA-7161-OCR-SM | SSA-7162-OCR-SM
Number of Respondents | 30,000 | 205,000
Frequency of Response | 1 | 1
Average Burden Per Response (minutes) | 15 | 5
Estimated Annual Burden (hours) | 7,500 | 17,083

4. Partnership Questionnaire—0960-0025—20 CFR, Subpart K, 404.1080-.1082. Form SSA-7104 is used to establish several aspects of eligibility for benefits, including accuracy of reported partnership earnings, the veracity of a retirement, and lag earnings where they are needed for insured status. The respondents are applicants for Old Age, Survivors and Disability Insurance Benefits.

Type of Request: Extension of an OMB-approved information collection.

Number of Respondents: 12,350.

Frequency of Response: 1.

Average Burden Per Response: 30 minutes.

Estimated Annual Burden: 6,175 hours.

5. SSI-Quality Review Case Analysis—0960-0960-0133. The form SSA-8508 is used in a personal interview with a sample of Supplemental Security Income (SSI) recipients and covers all elements of SSI eligibility. The information is used to assess the effectiveness of SSI policies and procedures and to determine payment accuracy rates. The respondents are SSI recipients.

Type of Request: Extension of an OMB-approved information collection.

Number of Respondents: 12,000.

Frequency of Response: 1.

Average Burden Per Response: 60 minutes.

Estimated Annual Burden: 12,000.

6. Statement of Funds You Provided to Another, Statement of Funds You Received—20 CFR 416.1103(f)—0960-0481. SSI entitlement, and the amount of the SSI payment, is affected by any other income the applicant has. Forms SSA-2854 and SSA-2855 are used by SSA to collect information in situations where the SSI applicant alleges that money was borrowed on an informal basis from a noncommercial lender, e.g., a relative or friend, etc. These statements are completed by the borrower/claimant and by the lender and are required to determine whether the proceeds from the transaction are/are not income to the borrower/claimant. If the transaction constitutes a bona fide loan, the proceeds are not income to the SSI borrower/claimant. The respondents are applicants for SSI payments who borrow money on an informal (noncommercial) basis and by individuals who lend money informally to SSI applicants.

Type of Request: Extension of an OMB-approved information collection.

Number of Respondents: 40,000.

Frequency of Response: 1.

Average Burden Per Response: 10 minutes.

Estimated Annual Burden: 6,667 hours.

7. SSI Wage Reporting Pilot—0960-NEW—Background: SSA regulations at 20 CFR 416.701-732 require that recipients of Supplemental Security Income (SSI) report changes, such as change in income, resources and living arrangements that could affect the receipt and amount of payments. Currently, SSI recipients report changes on form SSA-8150, Reporting Events—SSI, or to an SSA teleservice representative through SSA's toll-free telephone number or they visit their local Social Security Office.

The SSI Wage Reporting Pilot: SSA is proposing to conduct a 6-month SSI wage reporting pilot to test a different method of collecting the information. During the pilot, a sample of individuals who need to report a change in earned income would call an SSA toll-free telephone number which will allow them to either speak their report (voice recognition technology) or key in the information using the telephone key pad. At the conclusion of the pilot, SSA will evaluate whether this is an effective method of reporting the information.

Number of Respondents: 4,000.

Frequency of Response: 6.

Average Burden Per Response: 5 minutes.

Estimated Annual Burden: 2,000 hours.

Dated: February 6, 2003.
Elizabeth A. Davidson,
Reports Clearance Officer, Social Security Administration.

[FR Doc. 03-3511 Filed 2-11-03; 8:45 am]

BILLING CODE 4191-02-P